DEPARTMENT OF COMMERCE

National Oceanic and Atmospheric Administration

[I.D. 080305C]

Endangered Species; File No. 1537

AGENCY: National Marine Fisheries Service (NMFS), National Oceanic and Atmospheric Administration (NOAA), Commerce.

ACTION: Notice; issuance of permit.

SUMMARY: Notice is hereby given that Guam Division of Aquatic and Wildlife Resources (DAWR), 142 Dairy Road, Mangilao, Guam 96913, has been issued a permit to take green (Chelonia mydas) and hawksbill (Eretmochelys imbricata) sea turtles for purposes of scientific research.

ADDRESSES: The permit and related documents are available for review upon written request or by appointment in the following office(s):

Permits, Conservation and Education Division, Office of Protected Resources, NMFS, 1315 East-West Highway, Silver Spring, MD 20910; phone (301)713-2289; fax (301)427-2521; and

Pacific Islands Region, NMFS, 1601 Kapiolani Blvd., Rm 1110, Honolulu, HI 96814-4700; phone (808)973-2935; fax (808)973-2941.

FOR FURTHER INFORMATION CONTACT: Patrick Opay or Ruth Johnson, (301)713-2289.

SUPPLEMENTARY INFORMATION: On June 3, 2005, notice was published in the Federal Register (70 FR 32582) that a request for a scientific research permit to take green and hawksbill sea turtles had been submitted by the above-named organization. The requested permit has been issued under the authority of the Endangered Species Act of 1973, as amended (ESA; 16 U.S.C. 1531 et seq.) and the regulations governing the taking, importing, and exporting of endangered and threatened species (50 CFR parts 222-226).

Researchers will annually capture 63 green and 30 hawksbill sea turtles by hand or by tangle net. Turtles will be measured, flipper tagged, Passive Integrated Transponder tagged, tissue sampled, and released. A subset of individuals of each species will also have a satellite transmitter attached to their carapace. The research will gather information on turtle population size and stratification, species distribution, and health status. This information will be used to develop conservation management measures for these species. The research will occur in the waters off of Guam. The permit is issued for a 5-year period.

Issuance of this permit, as required by the ESA, was based on a finding that such permit (1) was applied for in good faith, (2) will not operate to the disadvantage of any endangered or threatened species, and (3) is consistent with the purposes and policies set forth in section 2 of the ESA.

Dated: August 26, 2005.
Stephen L. Leathery,
Chief, Permits, Conservation and Education Division, Office of Protected Resources, National Marine Fisheries Service.

[FR Doc. 05-17344 Filed 8-30-05; 8:45 am]

BILLING CODE 3510-22-S